DEPARTMENT OF TRANSPORTATION

Federal Aviation Administration

14 CFR Part 39

[Docket No. FAA-2020-0885; Project Identifier MCAI-2020-00997-A; Amendment 39-21424; AD 2021-04-03]

RIN 2120-AA64

Airworthiness Directives; Pilatus Aircraft Ltd. Airplanes

AGENCY: Federal Aviation Administration (FAA), DOT.

ACTION: Final rule.

SUMMARY: The FAA is adopting a new airworthiness directive (AD) for certain Pilatus Aircraft Ltd. (Pilatus) Model PC-24 airplanes. This AD was prompted by mandatory continuing airworthiness information (MCAI) originated by an aviation authority of another country to identify and correct an unsafe condition on an aviation product. The MCAI identifies the unsafe condition as improperly manufactured cockpit and cabin evaporator filters installed during production on some PC-24 airplanes. The FAA is issuing this AD to address the unsafe condition on these products.

DATES: This AD is effective March 30, 2021.

The Director of the Federal Register approved the incorporation by reference of a certain publication listed in this AD as of March 30, 2021.

ADDRESSES: For service information identified in this final rule, contact Pilatus Aircraft Ltd., CH-6371 Stans, Switzerland; phone: +41 848 24 7 365; email: techsupport.ch@pilatus-aircraft.com; website: https://www.pilatus-aircraft.com/. You may view this service information at the FAA, Airworthiness Products Section, Operational Safety Branch, 901 Locust, Kansas City, Missouri 64106. For information on the availability of this material at the FAA, call (816) 329-4148. It is also available at https://www.regulations.gov by searching for and locating Docket No. FAA-2020-0885.

Examining the AD Docket

You may examine the AD docket at https://www.regulations.gov by searching for and locating Docket No. FAA-2020-0885; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Doug Rudolph, Aviation Safety Engineer, General Aviation & Rotorcraft Section, International Validation Branch, FAA, 901 Locust, Room 301, Kansas City, Missouri 64106; phone: (816) 329-4059; fax: (816) 329-4090; email: doug.rudolph@faa.gov.

SUPPLEMENTARY INFORMATION:

Background

The FAA issued a notice of proposed rulemaking (NPRM) to amend 14 CFR part 39 by adding an AD that would apply to Pilatus Model PC-24 airplanes with certain part-numbered evaporator filter assemblies installed. The NPRM published in the Federal Register on November 23, 2020 (85 FR 74627). The NPRM was prompted by MCAI originated by the European Union Aviation Safety Agency (EASA), which is the Technical Agent for the Member States of the European Union. EASA has issued EASA AD No. 2020-0160, dated July 16, 2020 (referred to after this as “the MCAI”), to address the unsafe condition on Pilatus Model PC-24 airplanes. The MCAI states:

An occurrence was reported where, during production, cockpit and cabin evaporator filters were installed on some PC-24 aeroplanes, which were not the proper parts for the affected configuration.

This condition, if not corrected, could degrade the fire retardant properties of the filters, possibly resulting in an increase in smoke in the cockpit/cabin in case of electrical heater over-temperature.

To address this potential unsafe condition, Pilatus issued the [service bulletin] SB to provide replacement instructions.

For the reason described above, this AD requires replacement of affected parts with serviceable parts, as defined in this [EASA] AD, and prohibits (re) installation of affected parts.

Due to a quality escape, the fire retardant used in the original filters installed in production is not sufficient for the conditions in this configuration, which is close to the heater and blowers.

The MCAI can be found in the AD docket at https://www.regulations.gov by searching for and locating Docket No. FAA-2020-0885.

Discussion of Final Airworthiness Directive

Comments

The FAA received no comments on the NPRM or on the determination of the costs.

Conclusion

The FAA reviewed the relevant data and determined that air safety requires adopting this AD as proposed. Accordingly, the FAA is issuing this AD to address the unsafe condition on these products. This AD is adopted as proposed in the NPRM.

Related Service Information Under 1 CFR Part 51

The FAA reviewed Pilatus PC-24 Service Bulletin No. 21-006, dated April 3, 2020. This service information specifies procedures replace the cockpit and cabin evaporator filters with new filters contained in a modification kit. This service information is reasonably available because the interested parties have access to it through their normal course of business or by the means identified in ADDRESSES.

Differences Between This AD and the MCAI

This AD applies to airplanes with a defective filter installed, whereas the EASA AD applies to airplanes that do not have the modification kit, which was installed in production. This AD identifies the individual part numbers (P/Ns) of the defective filters to address any airplanes that may have had a modification kit filter replaced with a defective filter in the field before this AD becomes effective. This AD also applies to airplanes with a filter where the P/N is unknown. Pilatus advises that the defective filters can only be identified by their packing documents, as they do not have a permanent P/N marked on the actual part. The new filters in the modification kit do have a permanent marking on the frame of the actual part.

Costs of Compliance

The FAA estimates that this AD will affect 36 airplanes of U.S. registry. The FAA also estimates that it would take 2.5 work-hours per product to comply with the requirements of this AD. The average labor rate is $85 per work-hour. Required parts would cost about $575 per product, if all 4 filters would need to be replaced.

Based on these figures, the FAA estimates the cost of this AD on U.S. operators to be $28,350, or $787.50 per product.

The FAA has included all costs in this cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-04-03 Pilatus Aircraft Ltd.: Amendment 39-21424; Docket No. FAA-2020-0885; Project Identifier MCAI-2020-00997-A.

(a) Effective Date

This airworthiness directive (AD) is effective March 30, 2021.

(b) Affected ADs

None.

(c) Applicability

This AD applies to Pilatus Aircraft Ltd. Model PC-24 airplanes, all serial numbers, certificated in any category, with any of the following evaporator filter assemblies installed, or if the part number (P/N) of the evaporator filter assembly is unknown:

(1) Cockpit filter assembly P/N 959.90.20.291 (PC24EC-6068-1);

(2) Cabin front filter assembly P/N 959.90.20.290 (PC24EC-6287-1);

(3) Cabin bottom filter assembly P/N 959.90.20.288 (PC24EC-6288-1); or

(4) Cabin top filter assembly P/N 959.90.20.289 (PC24EC-6297-1).

Note 1 to paragraph (c): The P/N in parenthesis is an alternative vendor P/N.

(d) Subject

Joint Aircraft System Component (JASC) Code 2100, AIR CONDITIONING SYSTEM.

(e) Unsafe Condition

This AD was prompted by a reported occurrence where, during production, cockpit and cabin evaporator filters produced with degraded fire retardant properties were installed on some Model PC-24 airplanes. The FAA is issuing this AD to detect improper cockpit and cabin evaporator filters installed on Model PC-24 airplanes. The unsafe condition, if not addressed, could result in filters with degraded fire retardant properties, resulting in smoke in the cockpit and cabin in the event of electrical heater over-temperature.

(f) Actions and Compliance

(1) Within 4 months after the effective date of this AD, unless already done, remove each filter assembly from service and replace with a filter assembly as specified in table 1 to paragraph (f)(1) of this AD by following the Accomplishment Instructions, sections 3A. through 3C., of Pilatus PC-24 Service Bulletin No. 21-006, dated April 3, 2020.

Table 1 to Paragraph (f)(1)—Evaporator Filter Assemblies
Item | Remove filter P/N | Replace with filter P/N
Cockpit filter assembly | P/N 959.90.20.291 or PC24EC-6068-1 | P/N 959.90.20.303 or PC24EC-6068-5.
Cabin front filter assembly | P/N 959.90.20.290 or PC24EC-6287-1 | P/N 959.90.20.304 or PC24EC-6287-5.
Cabin bottom filter assembly | P/N 959.90.20.288 or PC24EC-6288-1 | P/N 959.90.20.305 or PC24EC-6288-5.
Cabin top filter assembly | P/N 959.90.20.289 or PC24EC-6297-1 | P/N 959.90.20.306 or PC24EC-6297-5.

(2) As of the effective date of this AD, do not install an evaporator filter assembly with a P/N listed in paragraph (c) of this AD on any airplane.

(g) Alternative Methods of Compliance (AMOCs)

The Manager, General Aviation & Rotorcraft Section, International Validation Branch, FAA, has the authority to approve AMOCs for this AD, if requested using the procedures found in 14 CFR 39.19. Send information to Doug Rudolph, Aviation Safety Engineer, FAA, General Aviation & Rotorcraft Section, International Validation Branch, 901 Locust, Room 301, Kansas City, Missouri 64106; phone: (816) 329-4059; fax: (816) 329-4090; email: doug.rudolph@faa.gov. Before using any approved AMOC, notify your appropriate principal inspector, or lacking a principal inspector, the manager of the local flight standards district office/certificate holding district office.

(h) Related Information

Refer to European Union Aviation Safety Agency (EASA) AD No. 2020-0160, dated July 16, 2020, for more information. You may examine the EASA AD at https://www.regulations.gov by searching for and locating Docket No. FAA-2020-0885.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Pilatus PC-24 Service Bulletin No. 21-006, dated April 3, 2020.

(ii) [Reserved]

(3) For Pilatus Aircraft Ltd. service information identified in this AD, contact Pilatus Aircraft Ltd., CH-6371 Stans, Switzerland; phone: +41 848 24 7 365; email: techsupport.ch@pilatus-aircraft.com; website: https://www.pilatus-aircraft.com/.

(4) You may view this service information at FAA, Airworthiness Products Section, Operational Safety Branch, 901 Locust, Kansas City, Missouri 64106. For information on the availability of this material at the FAA, call (816) 329-4148.

(5) You may view this service information that is incorporated by reference at the National Archives and Records Administration (NARA). For information on the availability of this material at NARA, email: fedreg.legal@nara.gov, or go to: https://www.archives.gov/federal-register/cfr/ibr-locations.html.

Issued on February 1, 2021.
Lance T. Gant,
Director, Compliance & Airworthiness Division, Aircraft Certification Service.

[FR Doc. 2021-03494 Filed 2-22-21; 8:45 am]

BILLING CODE 4910-13-P